FEDERAL RETIREMENT THRIFT INVESTMENT BOARD

Sunshine Act; Notice of ETAC Meeting

MATTERS TO BE CONSIDERED

AGENDA

Employee Thrift Advisory Council

October 29, 2015, 1:00 p.m., 10th Floor Board Meeting Room, 77 K Street NE., Washington, DC 20002.

1. Approval of the minutes of the August 6, 2015 ETAC meeting

2. Thrift Savings Fund Statistics

3. Auto Escalation

4. Choosing a Financial Vendor

5. Investment Policy

6. New Business

CONTACT PERSON FOR MORE INFORMATION: Kimberly Weaver, Director, Office of External Affairs, (202) 942-1640.

Dated: October 19, 2015.
Megan Grumbine,
Deputy General Counsel, Federal Retirement Thrift Investment Board.

[FR Doc. 2015-26941 Filed 10-20-15; 11:15 am]

BILLING CODE 6760-01-P